DEPARTMENT OF THE INTERIOR

Fish and Wildlife Service

[FWS-R4-ES-2012-N221; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by October 17, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

If you wish to comment, you may submit comments by mail or hand-delivery to the Fish and Wildlife Service's Regional Office (see ADDRESSES section) or via electronic mail (email) to permitsR4ES@fws.gov. Please include your name and return address in your email message. If you do not receive a confirmation from the Fish and Wildlife Service that we have received your email message, contact us directly at the telephone number listed above (see FOR FURTHER INFORMATION CONTACT section).

Before including your address, telephone number, email address, or other personal identifying information in your comments, you should be aware that your entire comment—including your personal identifying information—may be made publicly available at any time. While you can ask us in your comments to withhold your personal identifying information from public review, we cannot guarantee that we will be able to do so.

Permit Application Number: TE-79580A

Applicant: Jason Butler, Lexington, Kentucky

Applicant requests authorization to conduct presence/absence surveys for the Cumberland darter (Etheostoma susanae), Blackside dace (Chrosomus cumberlandensis), and Kentucky arrow darter (Etheostoma spilotum) in the Cumberland and Kentucky River drainages in Kentucky.

Permit Application Number: TE-130300

Applicant: Paul Johnson, Alabama Aquatic Biodiversity Center, Marion, Alabama

Applicant requests renewed authorization to collect, transport, house, translocate, and euthanize 54 freshwater mussel species, 9 snail species, and 8 fish species within Alabama.

Permit Application Number: TE-80377A

Applicant: Michael Zavislak, Columbia, South Carolina

Applicant requests authorization to conduct presence/absence surveys for Carolina heelsplitter (Lasmigona decorata) in South Carolina.

Permit Application Number: TE-80381A

Applicant: U.S. Army, Fort Campbell, Fort Campbell, Kentucky

Applicant requests authorization to conduct scientific studies and surveys on Indiana bats (Myotis sodalis) and gray bats (Myotis grisescens). These surveys will be conducted on Fort Campbell, in Tennessee and Kentucky.

Permit Application Number: TE-81756A

Applicant: Jason Robinson, Lexington, Kentucky

Applicant requests reauthorization to conduct scientific studies and surveys on the following species:

Indiana bat Myotis sodalis

Gray bat Myotis grisescens

Virginia big-eared bat Corynorhinus townsendii virginianus

These surveys will be conducted in Kentucky, North Carolina, Tennessee, Virginia, West Virginia, Ohio, Illinois and Indiana.

Dated: September 6, 2012.
Mark J. Musaus,
Acting Regional Director.

[FR Doc. 2012-22812 Filed 9-14-12; 8:45 am]

BILLING CODE 4310-55-P